DEPARTMENT OF HEALTH AND HUMAN SERVICES

National Institutes of Health

National Institute on Drug Abuse; Amended Notice of Meeting

Notice is hereby given of a change in the meeting of the National Institute on Drug Abuse Special Emphasis Panel, May 25, 2004, 9 a.m. to May 25, 2004, 4 p.m., Double Tree Rockville, 1750 Rockville Pike, Rockville, MD, 20852 which was published in the Federal Register on March 30, 2004, Vol. 69, Num. 61.

The location of the meeting was changed to the Holiday Inn Select Bethesda, 8120 Wisconsin Avenue, Bethesda, Maryland 20814. The date and time remain the same. The meeting is closed to the public.

Dated: April 23, 2004.
LaVerne Y. Stringfield,
Director, Office of Federal Advisory Committee Policy.

[FR Doc. 04-9733 Filed 4-28-04; 8:45 am]

BILLING CODE 4140-01-M